DEPARTMENT OF COMMERCE

International Trade Administration

[C-580-851]

Dynamic Random Access Memory Semiconductors From the Republic of Korea: Final Results of Sunset Review and Revocation of Order

AGENCY: Import Administration, International Trade Administration, Department of Commerce.

SUMMARY: On July 1, 2008, the Department of Commerce (“the Department”) published in the Federal Register the notice of initiation of the five-year sunset review of the countervailing duty order on dynamic random access memory semiconductors (“DRAMS”) from the Republic of Korea (“ROK”), pursuant to section 751(c) of the Tariff Act of 1930, as amended (“the Act”). Because the domestic interested party did not file a substantive response by the applicable deadline and has withdrawn its notice of intent to participate in this sunset review, the Department is revoking this countervailing duty order.

DATES: Effective Date: August 11, 2008.

FOR FURTHER INFORMATION CONTACT: Shane Subler or David Neubacher, Import Administration, International Trade Administration, U.S. Department of Commerce, 14th Street and Constitution Avenue, NW., Washington, DC 20230; telephone: (202) 482-0189 or (202) 482-5823, respectively.

SUPPLEMENTARY INFORMATION:

Background

On August 11, 2003, the Department issued a countervailing duty order on DRAMS from the ROK (68 FR 47546). See Notice of Countervailing Duty Order: Dynamic Random Access Memory Semiconductors From the Republic of Korea, 68 FR 47546 (August 11, 2003) (“CVD Order”). On July 1, 2008, the Department initiated a sunset review of this order. See Initiation of Five-year (“Sunset”) Review, 73 FR 37411 (July 1, 2008).

On July 16, 2008, we received a notice of intent to participate from Micron Technology, Inc. (“Micron”), a domestic interested party. On July 22, 2008, we informed the U.S. International Trade Commission (“ITC”) that there was domestic interest in continuation of the order. However, Micron did not file a substantive response by July 31, 2008, which was 30 days after the date of publication of the initiation notice in the Federal Register. Also, on August 1, 2008, Micron submitted a letter stating that it was withdrawing its notice of intent to participate in this sunset review. On August 19, 2008, we notified the ITC that we did not receive a substantive response from the domestic interested party by the applicable deadline and that we intend to revoke the order not later than 90 days after the initiation of the sunset review.

Scope of the Order

The products covered by this order are DRAMS from the ROK, whether assembled or unassembled. Assembled DRAMS include all package types. Unassembled DRAMS include processed wafers, uncut die, and cut die. Processed wafers fabricated in the ROK, but assembled into finished semiconductors outside the ROK are also included in the scope. Processed wafers fabricated outside the ROK and assembled into finished semiconductors in the ROK are not included in the scope.

The scope of this order additionally includes memory modules containing DRAMS from the ROK. A memory module is a collection of DRAMS, the sole function of which is memory. Memory modules include single in-line processing modules, single in-line memory modules, dual in-line memory modules, small outline dual in-line memory modules, Rambus in-line memory modules, and memory cards or other collections of DRAMS, whether unmounted or mounted on a circuit board. Modules that contain other parts that are needed to support the function of memory are covered. Only those modules that contain additional items which alter the function of the module to something other than memory, such as video graphics adapter boards and cards, are not included in the scope. This order also covers future DRAMS module types.

The scope of this order additionally includes, but is not limited to, video random access memory and synchronous graphics random access memory, as well as various types of DRAMS, including fast page-mode, extended data-out, burst extended data-out, synchronous dynamic RAM, Rambus DRAM, and Double Data Rate DRAM. The scope also includes any future density, packaging, or assembling of DRAMS. Also included in the scope of this order are removable memory modules placed on motherboards, with or without a central processing unit, unless the importer of the motherboards certifies with CBP that neither it, nor a party related to it or under contract to it, will remove the modules from the motherboards after importation. The scope of this order does not include DRAMS or memory modules that are re-imported for repair or replacement.

The DRAMS subject to this order are currently classifiable under subheadings 8542.21.8005, 8542.21.8020 through 8542.21.8030, and 8542.32.0001 through 8542.32.0023 of the Harmonized Tariff Schedule of the United States (“HTSUS”). The memory modules containing DRAMS from the ROK, described above, are currently classifiable under subheadings 8473.30.1040, 8473.30.1080, 8473.30.1140, and 8473.30.1180 of the HTSUS. Removable memory modules placed on motherboards are classifiable under subheadings 8443.99.2500, 8443.99.2550, 8471.50.0085, 8471.50.0150, 8517.30.5000, 8517.50.1000, 8517.50.5000, 8517.50.9000, 8517.61.0000, 8517.62.0010, 8517.62.0050, 8517.69.0000, 8517.70.0000, 8517.90.3400, 8517.90.3600, 8517.90.3800, 8517.90.4400, 8542.21.8005, 8542.21.8020, 8542.21.8021, 8542.21.8022, 8542.21.8023, 8542.21.8024, 8542.21.8025, 8542.21.8026, 8542.21.8027, 8542.21.8028, 8542.21.8029, 8542.21.8030, 8542.31.0000, 8542.33.0000, 8542.39.0000, 8543.89.9300, and 8543.89.9600 of the HTSUS. However, the product description, and not the HTSUS classification, is dispositive of whether merchandise imported into the United States falls within the scope.

Scope Rulings

On December 29, 2004, the Department received a request from Cisco Systems, Inc. (“Cisco”), to determine whether removable memory modules placed on motherboards that are imported for repair or refurbishment are within the scope of the order. See CVD Order. The Department initiated a scope inquiry pursuant to 19 CFR 351.225(e) on February 4, 2005. On January 12, 2006, the Department issued a final scope ruling, finding that removable memory modules placed on motherboards that are imported for repair or refurbishment are not within the scope of the CVD Order provided that the importer certifies that it will destroy any memory modules that are removed for repair or refurbishment. See Memorandum from Stephen J. Claeys to David M. Spooner, regarding Final Scope Ruling, Countervailing Duty Order on DRAMs From the Republic of Korea (January 12, 2006).

Determination To Revoke

Pursuant to section 751(c)(3)(A) of the Act, 19 CFR 351.218(d)(1)(iii)(B)(3), and 19 CFR 351.218(e)(1)(i)(C)(3), if no domestic interested party files a notice of intent to participate in a five-year review or does not file an adequate response, the Department shall, within 90 days after the initiation of the review, issue a final determination revoking the order. As noted above, the domestic interested party did not file a substantive response and withdrew its original notice of intent to participate. As a result, no domestic interested party is participating in this sunset review. Therefore, consistent with 19 CFR 351.222(i)(1)(i) and section 751(c)(3) of the Act, we are revoking this countervailing duty order. The effective date of revocation is August 11, 2008, the fifth anniversary of the date on which the Department published the countervailing duty order. See 19 CFR 351.222(i)(2)(i).

Effective Date of Revocation

Pursuant to section 751(c)(3)(A) of the Act and 19 CFR 351.222(i)(2)(i), the Department will instruct U.S. Customs and Border Protection to terminate the suspension of liquidation of the merchandise subject to this order entered, or withdrawn from warehouse, on or after August 11, 2008. Entries of subject merchandise prior to the effective date of revocation will continue to be subject to suspension of liquidation and antidumping and countervailing duty deposit requirements. The Department will complete any pending administrative reviews of this order and will conduct administrative reviews of subject merchandise entered prior to the effective date of revocation in response to appropriately filed requests for review.

The five-year (sunset) review and this notice are in accordance with sections 751(c) and 777(i)(1) of the Act.

Dated: September 29, 2008.
David M. Spooner,
Assistant Secretary for Import Administration.

[FR Doc. E8-23394 Filed 10-2-08; 8:45 am]

BILLING CODE 3510-DS-P